SECURITIES AND EXCHANGE COMMISSION

Sunshine Act Meetings

TIME AND DATE: Notice is hereby given, pursuant to the provisions of the Government in the Sunshine Act, Public Law 94-409, that the Securities and Exchange Commission staff will hold a public roundtable on Monday May 6, 2019 at 9:30 a.m.

PLACE: The roundtable will be held in the Multi-Purpose Room LL-006 at the Commission's headquarters, 100 F Street NE, Washington, DC 20549.

STATUS: The meeting will begin at 9:30 a.m. (ET) and will be open to the public. Seating will be on a first-come, first-served basis. Doors will open at 9:00 a.m. Visitors will be subject to security checks. The meeting will be webcast on the Commission's website at www.sec.gov.

MATTERS TO BE CONSIDERED: The Commission staff will host a roundtable on small business capital formation, with a focus on the experiences of investors and companies raising capital between the U.S. coasts. The roundtable is open to the public. This Sunshine Act notice is being issued because a majority of the Commission may attend the meeting.

The agenda for the roundtable will focus on successes and challenges faced by small businesses and their investors as they seek to raise capital, including the impact of rules and regulations under the federal securities laws.

CONTACT PERSON FOR MORE INFORMATION: For further information, please contact Vanessa A. Countryman from the Office of the Secretary at (202) 551-5400.

Dated: April 29, 2019.
Vanessa A. Countryman,
Acting Secretary.

[FR Doc. 2019-09039 Filed 4-30-19; 11:15 am]

BILLING CODE 8011-01-P